GENERAL SERVICES ADMINISTRATION

[OMB Control No. 3090-00XX; Docket No. 2010-0002; Sequence 22]

Information Collection; Supplier Greenhouse Gas Emissions Inventory Pilot

AGENCY: Federal Acquisition Service, General Services Administration (GSA).

ACTION: Notice of request for public comments regarding a new emergency OMB information clearance.

SUMMARY: Under the provisions of the Paperwork Reduction Act of 1995 (44 U.S.C. Chapter 35), GSA will be submitting to the Office of Management and Budget (OMB) a request to review and approve a new information collection requirement regarding the agency's Supplier Greenhouse Gas (GHG) Emissions Inventory pilot.

Public comments are particularly invited on: Whether this collection of information is necessary for the proper performance of functions of the Supplier GHG Emissions Inventory pilot, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before November 19, 2010.

ADDRESSES: Submit comments identified by Information Collection 3090-00XX; Supplier Greenhouse Gas Emissions Inventory Pilot, by any of the following methods:

• Regulations.gov: http://www.regulations.gov. Submit comments via the Federal e-Rulemaking portal by inputting “Information Collection 3090-00XX; Supplier GHG Emissions Inventory Pilot” under the heading “Enter Keyword or ID” and selecting “Search”. Select the link “Submit a Comment” that corresponds with “Information Collection 3090-00XX; Supplier GHG Emissions Inventory Pilot”. Follow the instructions provided at the “Submit a Comment” screen. Please include your name, company name (if any), and “Information Collection 3090-00XX; Supplier GHG Emissions Inventory Pilot” on your attached document.

• Fax: 202-501-4067.

• Mail: General Services Administration, Regulatory Secretariat (MVCB), 1800 F Street, NW., Room 4041, Washington, DC 20405. ATTN: Hada Flowers/IC 3090-00XX.

Instructions: Please submit comments only and cite Information Collection 3090-00XX; Supplier GHG Emissions Inventory Pilot, in all correspondence related to this collection. All comments received will be posted without change to http://www.regulations.gov, including any personal and/or business confidential information provided.

FOR FURTHER INFORMATION CONTACT: Mrs. Maleka B. Greene, Procurement Analyst, Federal Acquisition Service, at telephone (703) 605-9452 or via e-mail to Maleka.Greene@gsa.gov.

SUPPLEMENTARY INFORMATION:

A. Purpose

GSA is launching a pilot to ask questions and conduct focus groups with the top 200 Federal suppliers that voluntarily participated in the Carbon Disclosure Project's 2010 annual questions of GHG emissions measurement practices. The pilot questions and focus groups will assist GSA in identifying the benefits and challenges associated with inventorying and disclosing GHG emissions data via a registry. They will also assist the agency in identifying the type of outreach, training, and other direct assistance and incentives that will encourage Federal contractors to inventory and disclose their GHG emissions data in the future.

B. Annual Reporting Burden

Respondents: 200.

Responses Per Respondent: 2.

Hours Per Response: 4 Hours.

Total Burden Hours: 1,600 Hours.

Obtaining Copies of Proposals: Requesters may obtain a copy of the information collection documents from the General Services Administration, Regulatory Secretariat (MVCB), 1800 F Street, NW., Room 4041, Washington, DC 20405, telephone (202) 501-4755. Please cite OMB Control No. 3090-00XX; Supplier Greenhouse Gas Emissions Inventory Pilot, in all correspondence.

Dated: September 14, 2010.
Casey Coleman,
Chief Information Officer.

[FR Doc. 2010-23391 Filed 9-17-10; 8:45 am]

BILLING CODE 6820-89-P